DEPARTMENT OF AGRICULTURE

Forest Service

Ely Westside Rangeland Project

AGENCY: Forest Service, USDA.

ACTION: Notice of intent to prepare an environmental impact statement.

SUMMARY: The Ely Ranger District, Humboldt-Toiyabe National Forest will prepare an environmental impact statement (EIS) on a proposal to authorize continued livestock grazing within the Ely Westside Rangeland Project area. The analysis will determine if a change in management direction for livestock grazing is needed to move existing resource conditions within the Ely Westside Rangeland Project area towards desired conditions. Allotments within the project area are Big Creek, Black Rock, Cherry Creek, Currant Creek, Ellison Basin, Hooper Canyon, Irwin Canyon, Illipah, Pine/Quinn Creek, Tom Plain, Treasure Hill, and Troy Mountain. The Black Rock, Cherry Creek, Currant Creek, Ellison Basin, Illipah, Pine/Quinn Creek, Tom Plain, and Treasure Hill, are currently permitted for grazing; Big Creek, Hooper Canyon, and Irwin Canyon allotments are currently vacant; and the Troy Mountain Allotment is currently closed. These allotments are in Lincoln, Nye, and White Pine Counties, Nevada.

DATES: Comments concerning the scope of the analysis are due by January 15, 2007. The draft environmental impact statement is expected May 2007 and the final environmental impact statement is expected September 2007.

ADDRESSES: Send written comments to District Ranger, Ely Ranger District, 825 Ave. E, Ely, Nevada 89301.

FOR FURTHER INFORMATION CONTACT: For further information, mail correspondence to or contact David Palmer, Project Coordinator, at the Ely Ranger District, 825 Ave. E, Ely Nevada 89301. The telephone number is 775-289-5116. E-mail address is dmpalmer@fs.fed.us.

Purpose and Need for Action

There is a need to maintain or improve the condition of riparian resources and maintain or improve the overall health of the rangeland in the Ely Westside Rangeland Project area. The purpose of this project is to determine the management direction for livestock grazing needed to move existing resource conditions within the project area towards desired conditions.

Proposed Action

The Ely Ranger District, Humboldt-Toiyabe National Forest, is proposing to authorize continued domestic livestock grazing on approximately 569,000 acres within the Ely Westside Rangeland Project area under updated grazing management direction in order to move existing rangeland resource conditions within the project area toward desired condition. The updated direction will be incorporated in attendant grazing permits and allotment management plans to guide grazing management within the project area during the coming decade, or until amendments are warranted, based on changed condition or monitoring. The Black Rock, Cherry Creek, Currant Creek, Ellison Basin, Illipah, Pine/Quinn Creek, Tom Plain, and Treasure Hill, allotments would continue to have authorized grazing. A portion of the Troy Mountain Allotment, which is currently closed, would be re-opened to livestock grazing; the rest of the allotment would remain closed. Big Creek, Hooper Canyon, and Irwin Canyon allotments are currently vacant and would be recommended for closure.

Possible Alternatives

In addition to the proposed action, we have tentatively identified two additional alternatives that will be analyzed in the EIS.

(1.) No Action/No Grazing: This is not issuing new grazing permits when existing permits expire.

(2.) Current Management: This is continuation of current grazing management.

Responsible Official

Patricia N. Irwin, District Ranger, Ely Ranger District, 825 Ave. E, Ely, Nevada 89301

Nature of Decision To Be Made

Based on the environmental analysis in the EIS the Forest Supervisor will decide whether to continue grazing on the allotments within the Ely Westside Rangeland Project area, in accordance with the strategies in the proposed action or as modified by additional mitigation measures and monitoring requirements.

Scoping Process

The Forest Service will use a mailing of information to interested parties. Public involvement will be ongoing throughout the analysis process and at certain times, public input will be specifically requested. There are currently no scoping meetings planned.

Preliminary Issues

The following are some potential issues identified through internal Forest Service scoping based on our experience with similar projects. The list is not considered all-inclusive, but should be viewed as a starting point. We are asking you to help us further refine the issues and identify other issues or concerns relevant to the proposed project.

• Continued livestock grazing has the potential to affect water quality within the project area.

• Continued livestock grazing has the potential to affect heritage resources within the project area.

• Continued livestock grazing has the potential to affect soil quality within the project area.

• Continued livestock grazing has the potential to affect upland and riparian vegetation within the project area.

• Continued livestock grazing has the potential to affect the health of some aspen stands within the project area.

• Continued livestock grazing has the potential to affect wildlife habitat, particularly for elk and sage grouse, within the project area.

• Continued livestock grazing has the potential to affect fisheries habitat within the project area.

Comment Requested: This notice of intent initiates the scoping process, which guides the development of the environmental impact statement. Submit comments stating your concerns and issues that are relevant to the proposed project. Comments will be used to help establish the scope or studies and analysis for the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental review of the proposal so that it is meaningful and alerts an agency to the reviewer's position and contentions. Vermont Yankee Nuclear Power Corp. v. NRDC, 435 U.S. 519, 553 (1978). In addition, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal, and will be available for public inspection.

(Authority: 40 CFR 1501.7 and 1508.22; Forest Service Handbook 1909.15, Section 21).

Dated: November 9, 2006.
Patricia N. Irwin,
District Ranger.

[FR Doc. 06-9388 Filed 11-24-06; 8:45 am]

BILLING CODE 3410-11-M